DEPARTMENT OF COMMERCE

Membership of the Departmental Performance Review Board

AGENCY: Department of Commerce.

ACTION: Notice of Membership on the Departmental Performance Review Board.

SUMMARY: In accordance with 5 U.S.C., 4314 (c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2012.

DATES: Effective Date: The effective date of service of appointees to the Departmental Performance Review Board is based upon publication of this notice.

FOR FURTHER INFORMATION CONTACT: Denise A. Yang, Director, Office of Executive Resources, Office of Human Resources Management, Office of the Director, 14th and Constitution Avenue, NW., Washington, DC 20230, (202) 482-3600.

SUPPLEMENTARY INFORMATION: The names and position titles of the members of the DPRB are set forth below by organization:

Department of Commerce

Departmental Performance Review Board Membership

2010-2012

Office of the Secretary:

John C. Connor, Director, Office of White House Liaison

Tene A. Dolphin, Director, Executive Secretariat

Frederick C. Siger, Chief of Staff to the Deputy Secretary

Travis J. Sullivan, Director, Office of Policy and Strategic Planning

Office of General Counsel:

Michael A. Levitt, Assistant General Counsel for Legislation and Regulation

Barbara S. Fredericks, Assistant General Counsel for Administration

Geovette E. Washington, Deputy General Counsel

Chief Financial Officer and Assistant Secretary for Administration:

William J. Fleming, Deputy Director for Human Resources Management

Office of the Chief Information Officer

Earl B. Neal, Director of Information Technology, Security, Infrastructure and Technology

Bureau of Industry and Security:

Gay G. Shrum, Director of Administration

Bureau of the Census:

Arnold A. Jackson, Associate Director for Decennial Census

Economics and Statistics Administration:

Nancy Potok, Deputy Under Secretary for Economic Affairs

James K. White, Associate Under Secretary for Management

Economics and Development Administration:

Brian P. McGowan, Deputy Assistant Secretary for Economic Development

Sandra Walters, Chief Financial Officer and Director of Administration

International Trade Administration:

Michelle O'Neill, Deputy Under Secretary for International Trade

Stephen P. Jacobs, Deputy Assistant Secretary for Market Access and Compliance

Theodore C.Z. Johnston, Chief of Staff for ITA

Minority Business Development Agency:

Alejandra Y. Castillo, Deputy Director

Edith J. McCloud, Associate Director for Management

National Oceanic and Atmospheric Administration:

Robert J. Byrd, Chief Financial Officer/Chief Administrative Officer, NWS Joseph F. Klimavicz, Chief Information Officer and Director of High Performance Computing and Communications

Maureen Wylie, Chief Financial Officer, NOAA

Kathleen A. Kelly, Director, Office of Satellite Operations, NESDIS

National Technical Information Service:

Bruce E. Borzino, Director, National Technical Information Service

National Telecommunications and Information Administration:

Anna M. Gomez, Deputy Assistant Secretary for Communications and Information

Daniel C. Hurley, Director, Communications and Information Infrastructure Assurance Program

National Institute of Standards and Technology:

Richard F. Kayser, Jr., Special Assistant for Environment, Safety and Health

Dated: September 8, 2010.
Denise A. Yaag,
Director, Office of Executive Resources.

[FR Doc. 2010-22874 Filed 9-15-10; 8:45 am]

BILLING CODE 3510-BS-M